ENVIRONMENTAL PROTECTION AGENCY

[FRL-9190-9; Docket ID No. EPA-HQ-ORD-2009-0934]

The Effects of Mountaintop Mines and Valley Fills on Aquatic Ecosystems of the Central Appalachian Coalfields and a Field-Based Aquatic Life Benchmark for Conductivity in Central Appalachian Streams

AGENCY: Environmental Protection Agency (EPA).

ACTION: Extension of public comment period to September 3, 2010.

SUMMARY: EPA is announcing an extension of the public comment period for two related draft documents: (1) “The Effects of Mountaintop Mines and Valley Fills on Aquatic Ecosystems of the Central Appalachian Coalfields” (EPA/600/R-09/138A) and (2) “A Field-based Aquatic Life Benchmark for Conductivity in Central Appalachian Streams” (EPA/600/R-10/023A). We are specifically extending the comment period on these two documents to give the public additional time to evaluate the data used to derive a benchmark for conductivity. The original Federal Register notice announcing the public comment period was published on April 12, 2010 (75 FR 18499). By following the link below, reviewers may download the initial data and EPA's derivative data sets that were used to calculate the conductivity benchmark. These reports were developed by the National Center for Environmental Assessment (NCEA) within EPA's Office of Research and Development as part of a set of actions taken by EPA to further clarify and strengthen environmental permitting requirements for Appalachian mountaintop removal and other surface coal mining projects, in coordination with Federal and State regulatory agencies (http://www.epa.gov/owow/wetlands/guidance/mining.html).

Both documents were reviewed by an independent Mountaintop Mining Advisory Panel convened by EPA's Science Advisory Board (SAB) on July 21—23, 2010. The public comment period for the SAB meeting follows a separate process and provides separate opportunities for all interested parties to comment on the document. EPA intends to forward to the SAB those comments received as of September 3, 2010, for consideration by the SAB Panel as they finalize their report. When finalizing the draft documents, EPA will consider the comments from the SAB review as well as any significant public comments that it receives in accordance with this notice.

EPA released these draft documents for the purpose of pre-dissemination peer review under applicable information quality guidelines. The documents have not been formally disseminated by EPA. They do not represent and should not be construed to represent a final Agency policy or determination; however, the documents reflect EPA's best interpretation of the available science. The draft documents are available via the Internet on NCEA's home page under the Recent Additions and Publications menus at http://www.epa.gov/ncea.

DATES: The public comment period began on April 12, 2010, and ends on September 3, 2010. Technical comments should be in writing and must be received by EPA by September 3, 2010.

ADDRESSES: The draft reports, “The Effects of Mountaintop Mines and Valley Fills on Aquatic Ecosystems of the Central Appalachian Coalfields” and “A Field-based Aquatic Life Benchmark for Conductivity in Central Appalachian Streams” are available primarily via the Internet on NCEA's home page under the Recent Additions and Publications menus at http://www.epa.gov/ncea. A limited number of paper copies are available; contact the EPA by telephone (703-347-8629) or facsimile (703-347-8691). If you are requesting a paper copy, please provide your name, mailing address, and the document titles (1) “The Effects of Mountaintop Mines and Valley Fills on Aquatic Ecosystems of the Central Appalachian Coalfields” and (2) “A Field-based Aquatic Life Benchmark for Conductivity in Central Appalachian Streams.”

Comments may be submitted electronically via http://www.regulations.gov, by mail, by facsimile, or by hand delivery/courier. Please follow the detailed instructions provided in the SUPPLEMENTARY INFORMATION section of Federal Register Notice (75 FR 30393).

FOR FURTHER INFORMATION CONTACT: For information on submitting comments to the docket, please contact the Office of Environmental Information Docket; telephone: 202-566-1752; facsimile: 202-566-1753; or e-mail: ORD.Docket@epa.gov. For technical information, please leave a message at 703-347-8629 or send e-mail to MTM-Cond@epa.gov.

Dated: August 12, 2010.
David A. Bussard,
Acting Director, National Center for Environmental Assessment.

[FR Doc. 2010-20466 Filed 8-17-10; 8:45 am]

BILLING CODE 6560-50-P